CONSUMER PRODUCT SAFETY COMMISSION

Public Availability of Consumer Product Safety Commission FY 2017 and 2018 Service Contract Inventories

AGENCY: Consumer Product Safety Commission.

ACTION: Notice.

SUMMARY: The Consumer Product Safety Commission (CPSC), in accordance with section 743(c) of Division C of the Consolidated Appropriations Act, 2010, is announcing the availability of CPSC's service contract inventories for fiscal years (FYs) 2017 and 2018. The inventories provide information on service contract actions exceeding $25,000 that CPSC made in FYs 2017 and 2018.

FOR FURTHER INFORMATION CONTACT: Eddie Ahmad, Procurement Analyst, Division of Procurement Services, Division of Procurement Services, U.S. Consumer Product Safety Commission, 4330 East West Highway, Bethesda, MD 20814. Telephone: 301-504-7884; email: aahmad@cpsc.gov.

SUPPLEMENTARY INFORMATION: On December 16, 2009, the Consolidated Appropriations Act, 2010, Public Law 111-117, 123 Stat. 3034, 3216, (Consolidated Appropriations Act) became law. Section 743(a) of the Consolidated Appropriations Act, titled, “Service Contract Inventory Requirement,” requires agencies to submit to the Office of Management and Budget (OMB), an annual inventory of service contracts awarded or extended through the exercise of an option on or after April 1, 2010, and describes the contents of the inventory. The contents of the inventory must include:

(A) A description of the services purchased by the executive agency and the role the services played in achieving agency objectives, regardless of whether such a purchase was made through a contract or task order;

(B) The organizational component of the executive agency administering the contract, and the organizational component of the agency whose requirements are being met through contractor performance of the service;

(C) The total dollar amount obligated for services under the contract and the funding source for the contract;

(D) The total dollar amount invoiced for services under the contract;

(E) The contract type and date of award;

(F) The name of the contractor and place of performance;

(G) The number and work location of contractor and subcontractor employees, expressed as full-time equivalents for direct labor, compensated under the contract;

(H) Whether the contract is a personal services contract; and

(I) Whether the contract was awarded on a noncompetitive basis, regardless of date of award.

Section 743(a)(3)(A) through (I) of the Consolidated Appropriations Act. Section 743(c) of the Consolidated Appropriations Act requires agencies to “publish in the Federal Register a notice that the inventory is available to the public.”

Consequently, through this notice, we are announcing that the CPSC's service contract inventories for FYs 2017 and 2018 are available to the public. The inventories provide information on service contract actions of more than $25,000 that CPSC made in FYs 2017 and 2018. The information is organized by function to show how contracted resources are distributed throughout the CPSC. OMB posted a consolidated government-wide Service Contract Inventory for FYs 2017 and 2018 at: https://www.acquisition.gov/service-contract-inventory. You can access CPSC's inventories by limiting the “Contracting Agency Name” field on each spreadsheet to “Consumer Product Safety Commission.”

Additionally, CPSC's Division of Procurement Services has posted FY 2016 and 2017 inventory analyses, along with other related materials required by OMB, on CPSC's homepage at the following link: https://www.cpsc.gov/Agency-Reports/Service-Contract-Inventory. The FY 2016 and 2017 inventory analyses were developed in accordance with guidance issued on October 17, 2016 by the Office of Management and Budget (OMB), Office of Procurement Policy (OFPP).

Alberta E. Mills,
Secretary, Consumer Product Safety Commission.

[FR Doc. 2020-15530 Filed 7-16-20; 8:45 am]

BILLING CODE 6355-01-P